SURFACE TRANSPORTATION BOARD

[Docket No. FD 36726]

Pan Am Southern LLC—Temporary Overhead Trackage Rights—Boston and Maine Corporation and Springfield Terminal Railway Corporation

On February 2, 2024, Pan Am Southern LLC (PAS) filed a request under 49 CFR 1180.2(d)(8) for an additional extension of the temporary overhead trackage rights previously granted in this docket over a line owned by the Boston and Maine Corporation (B&M) and leased and operated by Springfield Terminal Railway Company (ST). That line generally extends between PAS's existing connection to B&M/ST's tracks at Engineering Station 215+89 at CPF 312 outside Ayer, Mass., and Engineering Station 225+00 outside Ayer, for a total distance of approximately 1,000 feet (the Line).

PAS was authorized to acquire these trackage rights over the Line by notice of exemption served and published in the Federal Register on September 28, 2023 (88 FR 66928).¹ By decision served in this docket on December 5, 2023, and published in the Federal Register on December 8, 2023 (88 FR 85717), the trackage rights were extended until February 5, 2024. The purpose of the trackage rights is to provide the necessary head and tail room to reposition locomotives while PAS procures and installs a “cross-over” to address a lack of space on the Line.

¹ On September 28, 2023, the Board granted PAS' petition to waive the requirement under 49 CFR 1180.4(g) that a verified notice be filed at least 30 days before the transaction is consummated and allowed the exemption to take effect immediately.

Under 49 CFR 1180.2(d)(8), the parties may, prior to the expiration of the temporary trackage rights, file a request for a renewal of the temporary rights for an additional period of up to one year, including the reasons for the extension. PAS states the initial construction schedule continues to be delayed, and the parties wish to extend the temporary overhead trackage rights until September 1, 2024, so that PAS can continue to provide service while construction is being completed. According to PAS, the parties have agreed to the extension and are working to finalize the paperwork. PAS states that it will file a copy of the amendment to the temporary trackage rights agreement with the Board once it is executed.

In accordance with 49 CFR 1180.2(d)(8), PAS's temporary trackage rights over the Line will be extended and will expire on September 1, 2024. The employee protective conditions imposed in the September 28, 2023 notice remain in effect. Notice of the extension will be published in the Federal Register.

It is ordered:

1. PAS's temporary trackage rights are extended and will expire on September 1, 2024.

2. Notice will be published in the Federal Register.

3. This decision is effective on its service date.

Decided: February 8, 2024.
By the Board, Mai T. Dinh, Director, Office of Proceedings.
Tammy Lowery,
Clearance Clerk.

[FR Doc. 2024-02927 Filed 2-12-24; 8:45 am]

BILLING CODE 4915-01-P